DEPARTMENT OF TRANSPORTATION

Federal Railroad Administration

[Docket Number FRA-2020-0009]

Petition for Waiver of Compliance

Under part 211 of title 49 Code of Federal Regulations (CFR), this provides the public notice that on January 13, 2020, the Metropolitan Council's Metro Transit Division (Metro Transit), petitioned the Federal Railroad Administration (FRA) for a waiver of compliance from certain provisions of the Federal railroad safety regulations contained at 49 CFR parts 214, 219, 220, 229, 235, and 236. FRA assigned the petition Docket Number FRA-2020-0009.

Metro Transit operates two rail fixed guideway transit systems in Minnesota—the METRO Blue and Green light rail transit (LRT) Lines. Currently, the Green Line is 11 miles in length with 18 stations between Target Field Station in downtown Minneapolis, and Union Depot Station in downtown St. Paul, sharing 5 stations in downtown Minneapolis with the Blue Line. The Green Line LRT Extension Project, also known as Southwest Light Rail Transit Line (SWLRT), will add approximately 14.5 miles of standard-gage light rail double-track with 16 new passenger stations within Hennepin County, Minnesota, to the existing Green Line LRT operations. The SWLRT project will extend the existing Green Line from the Target Field/Interchange Station near the central business district of downtown Minneapolis through the communities of St. Louis Park, Hopkins, Minnetonka, and Eden Prairie, passing near Edina. The SWLRT line will terminate at the Southwest Station in Eden Prairie. Construction of the SWLRT Project began in 2019 with the projected opening for revenue service operations in 2023.

SWLRT will be constructed adjacent to freight rail service operated by Twin Cities & Western Railroad (TCWR) in the Kenilworth Corridor and a portion of the Bass Lake Spur, and adjacent to freight rail service operated by BNSF Railway (BNSF) in the Wayzata Subdivision. Typical track center spacing averages 25 feet or more throughout this shared corridor. SWLRT and TCWR will share use of five highway-rail grade crossings (HRGC) on the Kenilworth Corridor and Bass Lake Spur located at 21st Street South in Minneapolis, Beltline Boulevard and Wooddale Avenue in St. Louis Park, and 5th Avenue South and Blake Road North in Hopkins. There are no shared HRGCs on the BNSF Wayzata Subdivision. An intrusion detection system will be installed wherever typical spacing for track centers between SWLRT and freight tracks is less than 50 feet.

On the Bass Lake Spur (Milepost (MP) 16.3/428.38 to MP 435.06), the Metropolitan Council has, on Hennepin County Regional Railroad Authority's behalf, contracted with third parties to perform freight rail operations maintenance, dispatching, and flagging services. The SWLRT track and signal system is wholly separate and distinct from any adjacent freight tracks and related equipment. Metro Transit will maintain its own track and signals in the SWLRT, and only Metro Transit Signal and Train Control employees will be working on signal and train control equipment at the five shared HRGCs.

Specifically, Metro Transit seeks a waiver of compliance from certain provisions of FRA regulations applicable to the limited connections of the SWLRT to the general railroad system at five shared HRGCs, stating it has alternative procedures in place on its existing Green Line operations which are comparable from a substantive perspective to FRA safety regulations. Moreover, Metro Transit states the waivers would promote consistency in the standard operating procedures followed by Metro Transit in its Green Line LRT operations and provide an equivalent level of safety to the corresponding FRA regulations.

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal holidays.

Communications received by March 16, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2020-01670 Filed 1-29-20; 8:45 am]

BILLING CODE 4910-06-P